DEPARTMENT OF THE INTERIOR

Bureau of Land Management

[LLNV9120000.L18200000.XX0000.LXSS006F0000.223.241A. MO: 4500163077]

Notice of Public Meeting: Sierra Front-Northern Great Basin Resource Advisory Council, Nevada

AGENCY: Bureau of Land Management, Interior.

ACTION: Notice of public meeting.

SUMMARY: In accordance with the Federal Land Policy and Management Act and the Federal Advisory Committee Act of 1972, the U.S. Department of the Interior's Bureau of Land Management (BLM) Sierra Front-Northern Great Basin Resource Advisory Council (RAC) will meet as follows.

DATES: The RAC will hold an in-person meeting with a virtual participation option on Thursday, August 11, 2022. The RAC will also host a field tour on Friday, August 12. The meeting will be held from 8 a.m. to 5 p.m. and may end earlier or later depending on the needs of group members. The field tour will begin at 7 a.m. and conclude at 2 p.m.

ADDRESSES: The meeting will be held at Dalling Hall, 600 Commercial Street, Elko, Nevada 89801. Individuals who prefer to participate in the August 11 meeting virtually must register by visiting the RAC's web page no later than 1 week before the meeting at https://www.blm.gov/get-involved/resource-advisory-council/near-me/nevada. The final meeting agenda will be available two weeks in advance of the meeting on the RAC's web page.

The field tour will commence at the Elko District Office, 3900 Idaho St., Elko, Nevada 89801. Participants will travel to the Big Ledge Mine.

Written comments can be mailed to: BLM Carson City District Office, Attn: RAC Coordinator; 5665 Morgan Mill Road, Carson City, NV 89701. Comments can also be submitted by email to Lisa Ross at lross@blm.gov with the subject line: BLM Sierra Front-Northern Great Basin RAC.

FOR FURTHER INFORMATION CONTACT: Lisa Ross, RAC Coordinator, telephone: (775) 885-6107, email: lross@blm.gov.

SUPPLEMENTARY INFORMATION: The 15-member BLM Sierra Front-Northern Great Basin RAC serves in an advisory capacity concerning issues relating to land use planning and the management of the public land resources located within the BLM's Elko, Winnemucca, and Carson City Districts. Meetings are open to the public in their entirety and a public comment period will be held near the end of the meeting.

Agenda items for the August 11 meeting include District updates; a presentation on the Big Ledge Mine Closure; an overview of the Fire/Fuels Vegetation Program and Ranchers' Liaison Program; a review of the proposed BLM recreation fee plan; a briefing on recent efforts and proposed land sales; and a discussion on Infrastructure Investment and Jobs Act projects. The August 12 field tour is to the Big Ledge Mine in the northern Snake Mountain Range approximately 60 miles north of Wells, Nevada, in Elko County. The Big Ledge Mine began operations in 2007 and is now permanently closing. The field tour will offer participants the opportunity to see the on-the-ground remediation efforts that include backfilling the barium mining pit and eliminating the mining pit lake. Members of the public are welcome on field tours but must provide their own transportation and meals. Individuals who plan to attend the field tour must RSVP with Lisa Ross in the BLM Carson City District Office at least 1 week in advance of the field tour (see FOR FURTHER INFORMATION CONTACT). The field tour will follow current Centers for Disease Control and Prevention COVID-19 guidance regarding social distancing and wearing of masks.

Please make requests in advance for sign language interpreter services, assistive listening devices, or other reasonable accommodations. We ask that you contact the person listed in the (see FOR FURTHER INFORMATION CONTACT) section of this notice at least seven (7) business days prior to the meeting to give the Department of the Interior sufficient time to process your request. All reasonable accommodation requests are managed on a case-by-case basis.

Individuals in the United States who are deaf, blind, hard of hearing, or have a speech disability may dial 711 (TTY, TDD, or TeleBraille) to access telecommunications relay services. Individuals outside the United States should use the relay services offered within their country to make international calls to the point-of-contact in the United States.

Interested persons may make oral presentations to the RAC during the meetings or file written statements. Such requests should be made to RAC Coordinator Ms. Ross prior to the public comment period. Depending on the number of people who wish to speak, the time for individual comments may be limited.

Before including your address, phone number, email address, or other personal identifying information in your comments, please be aware that your entire comment, including your personal identifying information, may be made publicly available at any time. While you can ask us in your comment to withhold your personal identifying information from public review, we cannot guarantee that we will be able to do so.

(Authority: 43 CFR 1784.4-2)

Gerald Dixon,
Designated Federal Officer, BLM Elko District Manager.

[FR Doc. 2022-14438 Filed 7-6-22; 8:45 am]

BILLING CODE 4310-HC-P